DEPARTMENT OF THE INTERIOR

Bureau of Reclamation

Navajo Unit, Colorado River Storage Project, New Mexico and Colorado

AGENCY: Bureau of Reclamation, Interior.

ACTION: Notice of availability and notice of public hearings for the Navajo Reservoir Operations Draft Environmental Impact Statement, INT-DES-02-35.

SUMMARY: Pursuant to the National Environmental Policy Act (NEPA) of 1969 (as amended), the Department of the Interior, Bureau of Reclamation (Reclamation), has prepared a Draft Environmental Impact Statement (DEIS) on the operations of the Navajo Unit (Navajo Dam and Reservoir) of the Colorado River Storage Project (CRSP).

The DEIS describes the environmental impacts of alternatives to operate Navajo Dam and Reservoir to implement the flow recommendations provided by the San Juan River Basin Recovery Implementation Program (Recovery Program). The purpose of the proposed federal action is to provide sufficient releases of water at times, quantities, and durations necessary to conserve the two endangered fish species, the razorback sucker and Colorado pikeminnow (formerly Colorado squawfish), and their designated critical habitat in the San Juan River downstream from Farmington, New Mexico. Reclamation would maintain the authorized purposes of the Navajo Unit which include enabling future water development to proceed in the San Juan River Basin in compliance with applicable laws, compacts, court decrees, and Indian trust responsibilities.

The DEIS describes and analyzes three alternatives. Under the first alternative (No Action Alternative), which describes historical operations of Navajo Reservoir from 1973 to 1991, the flow recommendations would not be met. Under the second alternative (250/5000 Alternative) (Flow Recommendations), Reclamation would implement the flow recommendations by modifying the operations of Navajo Reservoir to provide sufficient releases of water to conserve the endangered fish and their designated critical habitat. The third alternative (500/5000 Alternative) considered in the DEIS would not fully meet the flow recommendations.

DATES: A 60-day public review period commences with the publication of this notice. Written comments on the DEIS are due by November 4, 2002, and should be submitted to Ken Beck at the address given below. Public hearings will be held during the month of October in New Mexico, Colorado, and Utah. The public hearings schedule is as follows:

• October 1, 2002, 6 to 9 p.m., Farmington Civic Center, 200 West Arrington, Farmington, New Mexico.

• October 2, 2002, 6 to 9 p.m., Doubletree Hotel, 501 Camino Del Rio, Durango, Colorado.

• October 3, 2002, 6 to 9 p.m., Community Center, 190 North Third East, Bluff, Utah.

ADDRESSES: Written comments on the DEIS and requests for copies should be addressed to Ken Beck, Bureau of Reclamation, Western Colorado Area Office, 835 East Second Avenue, Suite 400, Durango, Colorado 81301; telephone (970) 385-6558; faxogram (970) 385-6539; e-mail: navcomments@uc.usbr.gov. The DEIS is also available on Reclamation's Web site at http://www.uc.usbr.gov (click on Environmental Documents).

Our practice is to make comments, including names and home addresses of respondents, available for public review. Individual respondents may request that we withhold their home address from public disclosure, which we will honor to the extent allowable by law. If you wish us to withhold your name and/or address, you must state this prominently at the beginning of your comment. We will make all submissions from organizations or businesses, and from individuals identifying themselves as representatives or officials of organizations or businesses, available for public disclosure in their entirety.

Copies of the DEIS are also available for public review and inspection at the following locations:

• Bureau of Reclamation, Main Interior, Room 7060-MIB, 1849 C Street, NW, Washington, DC 20240-0001

• Bureau of Reclamation, Denver Office Library, Denver Federal Center, Building 67, Room 167, Denver, Colorado 80225-0007

• Bureau of Reclamation, Upper Colorado Regional Office, 125 South State Street, Room 6107, Salt Lake City, Utah 84138-1102

• Bureau of Reclamation, Western Colorado Area Office, 835 East Second Avenue, Suite 400, Durango, Colorado 81301

• Bureau of Reclamation, Western Colorado Area Office, 2764 Compass Drive, Suite 106, Grand Junction, Colorado 81506

• New Mexico State, Local Government Division, Attention: Ken Hughes, Bataan Memorial Building, Room 201, Santa Fe, New Mexico 87503

Libraries

Cortez Public Library, Cortez, Colorado

Denver Public Library, Denver, Colorado

Durango Public Library, Durango, Colorado

Fort Lewis College Library, Durango, Colorado

Albuquerque Public Library, Albuquerque, New Mexico

Bloomfield Library, Bloomfield, New Mexico

Farmington Public Library, Farmington, New Mexico

San Juan College Library, Farmington, New Mexico

Dine' College Library, Shiprock, New Mexico

FOR FURTHER INFORMATION CONTACT: Ken Beck, Bureau of Reclamation, 835 East Second Avenue, Suite 400, Durango, Colorado 81301, telephone (970) 385-6558.

SUPPLEMENTARY INFORMATION: The Navajo Unit was authorized by Congress in 1956 as one of four key features of the CRSP intended to develop the water resources of the Upper Colorado River Basin and is operated in accordance with the CRSP Act and applicable Reclamation and other federal laws.

After completion of the Navajo Unit in December 1962, the focus of the criteria for releasing water from Navajo Dam was primarily on meeting irrigation needs, providing flood control, maintaining stable river flows, and providing a recreation pool in Navajo Reservoir. Over the last decade, however, the focus of the criteria and associated patterns for releasing water from the Navajo Unit was modified to accommodate endangered fish research and recovery efforts in the San Juan River due to Endangered Species Act (ESA) consultations.

Formal consultation under the ESA on the Navajo Unit was requested by Reclamation in 1991. At that time, Reclamation committed to operate Navajo Dam in concert with ongoing research to determine hydrologic conditions beneficial to endangered fish and in a manner most consistent with endangered fish recovery. In a 1991 response to Reclamation, the Fish and Wildlife Service concurred that the consultation process should be initiated and that the consultation period for the operations of the Navajo Unit be extended while research on the San Juan River was conducted.

Under the direction of the Recovery Program, Navajo Dam releases were evaluated from 1992 to 1998. At the completion of the research period, the Recovery Program completed the Flow Recommendations for the San Juan River (Holden, 1999). The recommendations included suggested Navajo Dam operating rules for various hydrologic conditions and levels of water development in the San Juan River Basin. Applying these rules would allow the flow recommendations to be met and water development to proceed consistent with the ESA and other applicable laws.

Proposed Federal Action

Reclamation proposes to operate Navajo Dam and Reservoir to implement ESA-related flow recommendations on the San Juan River in a manner which allows for both current and certain future water depletions, which have obtained appropriate environmental compliance but are not yet exercised, to proceed.

This change in reservoir operation would assist in conserving endangered fish in the San Juan River downstream from Farmington, New Mexico, and in enabling water development to proceed in the San Juan River Basin in compliance with applicable laws, compacts, court decrees, and American Indian trust responsibilities. To accomplish this action, Reclamation would operate Navajo Dam to meet the authorized project purposes while modifying reservoir release patterns to meet flow recommendations designed to maintain or improve habitat for the razorback sucker and Colorado pikeminnow.

Hearing Process Information

Oral comments at the hearings will be limited to five minutes. The hearing officer may allow any speaker to provide additional oral comments after all persons wishing to comment have been heard. All comments will be formally recorded. Speakers not present when called will lose their privilege in the scheduled order and will be recalled at the end of the scheduled speakers. Speakers are encouraged to provide written versions of their oral comments, and any other additional written materials, for the hearing/administrative record.

Written comments from those unable to attend or those wishing to supplement their oral presentations at the hearings should be received by Reclamation's Western Colorado Area Office in Durango at the address given above no later than November 4, 2002, for inclusion in the hearing/administrative record. Under the NEPA process, written and oral comments, received by the due date, are given the same consideration.

Dated: August 5, 2002.
Rick L. Gold,
Regional Director.

[FR Doc. 02-22542 Filed 9-3-02; 8:45 am]

BILLING CODE 4310-MN-P